DEPARTMENT OF TRANSPORTATION

Federal Aviation Administration

14 CFR Part 39

[Docket No. FAA-2012-1229; Directorate Identifier 2012-NM-135-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 757 and Model 767 airplanes. This proposed AD was prompted by a standby power relay failure and subsequent illumination of the “STANDBY BUS OFF” light, which led the flightcrew to set the standby power switch to the “BAT” position, isolating the battery and standby buses, disabling the battery charger, and eventually causing the main battery to be depleted. This proposed AD would require doing wiring changes and installing a new air/ground relay to the battery charger system. We are proposing this AD to prevent discharge of the main battery, which could result in multiple system degradation, reduced airplane controllability, and runway excursion upon landing.

DATES: We must receive comments on this proposed AD by February 4, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Marie Hogestad, Aerospace Engineer, Systems and Equipment Branch, ANM-130S, Seattle Aircraft Certification Office (ACO), FAA, 1601 Lind Avenue SW., Renton, WA 98057-3356; phone: 425-917-6418; fax: 425-917-6590; email: marie.hogestad@faa.gov.

SUPPLEMENTARY INFORMATION:

Comments Invited

We invite you to send any written relevant data, views, or arguments about this proposal. Send your comments to an address listed under the ADDRESSES section. Include “Docket No. FAA-2012-1229; Directorate Identifier 2012-NM-135-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

During a flight on a Model 757 airplane, the “STANDBY BUS OFF” indication light illuminated due to failure of the standby power relay. Following the Quick Reference Handbook (QRH) instructions, the flightcrew set the standby power switch to the “BAT” position, and continued with the flight. By design, this action isolated the 28 volt direct current (VDC) hot battery bus, 28 VDC battery bus, 28 VDC standby bus, and 115 volt alternating current (VAC) standby bus; disabled the battery charger; and caused the main battery alone to power the standby buses (115 VAC and 28 VDC). The flight continued beyond the battery limit causing the main battery to be depleted with consequent loss of power to the battery/standby buses and the systems associated with them. On approach, the flightcrew found that the horizontal stabilizer trim was not available, and that the lateral control was degraded. Upon landing, the speedbrakes only partially deployed, reverse thrust was unavailable, one-half of the flight spoilers and all the ground spoilers were inoperative, and all four inboard tires blew due to the loss of inboard anti-skid. When the airplane stopped, the engines could not be powered off using standard procedures. We have determined that Model 767 airplanes are similar in design to Model 757 airplanes; therefore, this unsafe condition might also occur on certain Model 767 airplanes. This condition, if not corrected, could result in discharge of the main battery, which could result in multiple system degradation, reduced airplane controllability, and runway excursion upon landing.

Relevant Service Information

We reviewed Boeing Special Attention Service Bulletin 757-24-0132, Revision 1, dated June 19, 2012; and Boeing Special Attention Service Bulletin 767-24-0200, Revision 1, dated September 13, 2012. For information on the procedures and compliance times, see this service information at http://www.regulations.gov by searching for Docket No. FAA-2012-1229.

FAA's Determination

We are proposing this AD because we evaluated all the relevant information and determined the unsafe condition described previously is likely to exist or develop in other products of the same type design.

Proposed AD Requirements

This proposed AD would require accomplishing the actions specified in the service information described previously.

The phrase “related investigative actions” might be used in this proposed AD. “Related investigative actions” are follow-on actions that (1) are related to the primary action, and (2) are actions that further investigate the nature of any condition found. Related investigative actions in an AD could include, for example, inspections.

In addition, the phrase “corrective actions” might be used in this proposed AD. “Corrective actions” are actions that correct or address any condition found. Corrective actions in an AD could include, for example, repairs.

Costs of Compliance

We estimate that this proposed AD affects 1,085 airplanes of U.S. registry.

We estimate the following costs to comply with this proposed AD:

Estimated Costs
Action | Labor cost | Parts cost | Cost per product | Cost on U.S. operators
Install new air/ground relay, 674 Model 757 airplanes | 23 work-hours × $85 per hour = $1,955 | Up to $733 | Up to $2,688 | Up to $1,811,712.
Install new air/ground relay, 411 Model 767 airplanes | Up to 35 work-hours × $85 per hour = $2,975 | Up to $881 | Up to $3,856 | Up to $1,584,816.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2012-1229; Directorate Identifier 2012-NM-135-AD.

(a) Comments Due Date

We must receive comments by February 4, 2013.

(b) Affected ADs

None.

(c) Applicability

This AD applies to The Boeing Company airplanes, certificated in any category, identified in paragraphs (c)(1) and (c)(2) of this AD.

(1) Model 757-200, -200PF, -200CB, and -300 series airplanes, as identified in Boeing Special Attention Service Bulletin 757-24-0132, Revision 1, dated June 19, 2012.

(2) Model 767-200, -300, -300F, and -400ER series airplanes, as identified in Boeing Special Attention Service Bulletin 767-24-0200, Revision 1, dated September 13, 2012.

(d) Subject

Joint Aircraft System Component (JASC)/Air Transport Association (ATA) of America Code 24, Electrical Power.

(e) Unsafe Condition

This AD was prompted by a standby power relay failure and subsequent illumination of the “STANDBY BUS OFF” light, which led the flightcrew to set the standby power switch to the “BAT” position, isolating the battery and standby buses, disabling the battery charger, and eventually causing the main battery to be depleted. We are issuing this AD to prevent discharge of the main battery, which could result in multiple system degradation, reduced airplane controllability, and runway excursion upon landing.

(f) Compliance

Comply with this AD within the compliance times specified, unless already done.

(g) Installation

Within 60 months after the effective date of this AD: Do wiring changes and install a new air/ground relay to the battery charger system, in accordance with the Accomplishment Instructions of Boeing Special Attention Service Bulletin 757-24-0132, Revision 1, dated June 19, 2012; or Boeing Special Attention Service Bulletin 767-24-0200, Revision 1, dated September 13, 2012; as applicable.

(h) Credit for Previous Actions

(1) For Model 757 airplanes: This paragraph provides credit for the actions required by paragraph (g) of this AD if those actions were performed before the effective date of this AD using Boeing Special Attention Service Bulletin 757-24-0132, dated April 14, 2011, which is not incorporated by reference in this AD.

(2) For Model 767 airplanes: This paragraph provides credit for the actions required by paragraph (g) of this AD if those actions were performed before the effective date of this AD using Boeing Special Attention Service Bulletin 767-24-0200, dated April 14, 2011, which is not incorporated by reference, provided that a functional test of the battery charger system is done, in accordance with the Accomplishment Instructions of Boeing Special Attention Service Bulletin 767-24-0200, Revision 1, dated September 13, 2012, within 60 months after the effective date of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(j) Related Information

(1) For more information about this AD, contact Marie Hogestad, Aerospace Engineer, Systems and Equipment Branch, ANM-130S, Seattle Aircraft Certification Office (ACO), FAA, 1601 Lind Avenue SW., Renton, WA 98057-3356; phone: 425-917-6418; fax: 425-917-6590; email: marie.hogestad@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, the FAA, 1601 Lind Avenue SW., Renton, WA. For information on the availability of this material at the FAA, call 425-227-1221.

Issued in Renton, Washington, on December 12, 2012.
Ali Bahrami,
Manager, Transport Airplane Directorate, Aircraft Certification Service.

[FR Doc. 2012-30666 Filed 12-19-12; 8:45 am]

BILLING CODE 4910-13-P